DEPARTMENT OF ENERGY

Federal Energy Regulatory Commission

[Docket No. RP01-612-001]

ANR Pipeline Company; Notice of Compliance Filing

November 19, 2001.

Take notice that on November 15, 2001, ANR Pipeline Company (ANR), tendered for filing an explanatory statement to address concerns raised by Indicated Shippers and Substitute Second Revised Sheet No. 86A. ANR requests that the substitute revised tariff sheet be made effective October 31, 2001.

ANR states that the tariff sheet and explanatory statement are being filed in compliance with the Commission's October 26, 2001 order accepting and suspending the tariff sheets subject to ANR providing additional information to address the issues raised by the Indicated Shippers regarding ANR's proposed Associated Liquefiables pro forma Agreement.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-29315 Filed 11-23-01; 8:45 am]

BILLING CODE 6717-01-P